DEPARTMENT OF DEFENSE

Department of the Army, Corps of Engineers

33 CFR Part 328

ENVIRONMENTAL PROTECTION AGENCY

40 CFR Parts 110, 112 116, 117, 122, 230, 232, 300, 302, and 401

[EPA-HQ-OW-2011-0880; FRL-9912-78-OW]

RIN 2040-AF30

Definition of “Waters of the United States” Under the Clean Water Act; Extension of Comment Period

AGENCIES: U.S. Army Corps of Engineers (Corps), Department of the Army, Department of Defense; and Environmental Protection Agency (EPA).

ACTION: Proposed rule; Extension of Comment Period.

SUMMARY: The U.S. Environmental Protection Agency (EPA) and the U.S. Army Corps of Engineers (Corps) are extending the comment period for the proposed rule “Definition of `Waters of the United States' Under the Clean Water Act” published on April 21, 2014 (79 FR 22188). The agencies are extending the comment period in response to stakeholder requests for an extension.

DATES: Comments must be received on or before October 20, 2014. The comment period was originally scheduled to end on July 21, 2014.

ADDRESSES: Submit your comments, identified by Docket identification (ID) No. EPA-HQ-OW-2011-0880, by one of the following methods:

• Federal eRulemaking Portal: http://www.regulations.gov. Follow the online instructions for submitting comments.

• Email: ow-docket@epa.gov.

• Mail: Water Docket, Environmental Protection Agency, Mail Code 2822T, 1200 Pennsylvania Ave. NW., Washington, DC 20460. Attention: Docket ID No. EPA-HQ-OW-2011-0880.

• Hand Delivery: EPA Docket Center, EPA West Room 3334, 1301 Constitution Ave. NW., Washington, DC 20004, Attention: Docket ID No. EPA-HQ-OW-2011-0880. Such deliveries are only accepted during the Docket Center's normal hours of operation. Special arrangements should be made for deliveries of boxed information by calling 202-566-2426.

Instructions: Direct your comments to Docket ID No. EPA-HQ-OW-2011-0880. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disc you submit. If the EPA cannot read your comment due to technical difficulties and cannot contact you for clarification, the EPA may not be able to consider your comment. Electronic files should avoid the use of special characters, any form of encryption, and be free of any defects or viruses. For additional information about the EPA's public docket visit the Docket Center homepage at http://www.epa.gov/epahome/dockets.htm.

Docket: All documents in the docket are listed in the http://www.regulations.gov index. Although listed in the index, some information is not publicly available (e.g., CBI or other information whose disclosure is restricted by statute). Certain other materials, such as copyrighted material, will be publicly available only in hard copy. Publicly available docket materials are available either electronically in http://www.regulations.gov or in hard copy at the Office of Water Docket Center, EPA/DC, EPA West, Room 3334, 1301 Constitution Ave. NW., Washington, DC. The Public Reading Room is open from 8:30 a.m. to 4:30 p.m., Monday through Friday, excluding legal holidays. The telephone number for the Public Reading Room is (202) 566-1744; the telephone number for the Office of Water Docket Center is (202) 566-2426.

FOR FURTHER INFORMATION CONTACT: Ms. Donna Downing, Office of Water (4502-T), Environmental Protection Agency, 1200 Pennsylvania Avenue NW., Washington, DC 20460; telephone number 202-566-2428; email address: CWAwaters@epa.gov. Ms. Stacey Jensen, Regulatory Community of Practice (CECW-CO-R), U.S. Army Corps of Engineers, 441 G Street NW., Washington, DC 20314; telephone number 202-761-5856; email address: USACE_CWA_Rule@usace.army.mil.

Dated: June 13, 2014.
Nancy K. Stoner,
Acting Assistant Administrator for Water, Environmental Protection Agency.
Dated: June 16, 2014.
Jo-Ellen Darcy,
Assistant Secretary of the Army (Civil Works), Department of the Army.

[FR Doc. 2014-14674 Filed 6-23-14; 8:45 am]

BILLING CODE 6560-50-P